DEPARTMENT OF COMMERCE

International Trade Administration

(A-533-848)

Commodity Matchbooks from India: Notice of Extension of Time Limits for Preliminary Determination of Antidumping Duty Investigation

AGENCY: Import Administration, International Trade Administration, Department of Commerce.

EFFECTIVE DATE: March 23, 2009.

FOR FURTHER INFORMATION CONTACT: Elizabeth Eastwood, AD/CVD Operations, Office 2, Import Administration, International Trade Administration, U.S. Department of Commerce, 14th Street and Constitution Avenue, NW, Washington, DC 20230; telephone: (202) 482-3874.

SUPPLEMENTARY INFORMATION:

Postponement of Preliminary Determination

On November 24, 2008, the Department of Commerce (the Department) published a notice of initiation of antidumping investigation of imports of commodity matchbooks from India. See Commodity Matchbooks from India: Initiation of Antidumping Duty Investigation, 73 FR 70965 (Nov. 24, 2008). The notice of initiation stated that we would issue our preliminary determination no later than 140 days after the date of initiation, in accordance with section 733(b)(1)(A) of the Tariff Act of 1930, as amended (the Act). The preliminary determination is currently due no later than April 7, 2009.

On March 12, 2009, the petitioner, D. D. Bean & Sons Co., made a timely request pursuant to section 733(c)(1)(A) of the Act and 19 CFR 351.205(e) for a 50-day extension of the preliminary determination. The petitioner requested that the determination be extended due to the complexities of the case and the difficulty in obtaining useable information from the sole respondent, Triveni Safety Matches Pvt. Ltd.

Under section 733(c)(1)(A) of the Act, if the petitioner makes a timely request for an extension of the period within which the preliminary determination must be made under subsection (b)(1), then the Department may postpone making the preliminary determination under subsection (b)(1) until not later than the 190th day after the date on which the administering authority initiated the investigation. Therefore, for the reasons identified by the petitioner and because there are no compelling reasons to deny the request, the Department is postponing the preliminary determination in this investigation until May 27, 2009, which is 190 days from the date on which the Department initiated this investigation.

This notice is issued and published pursuant to section 733(c)(2) of the Act and 19 CFR 351.205(f)(1).

Dated: March 16, 2009.
John M. Andersen,
Acting Deputy Assistant Secretary for Antidumping and Countervailing Duty Operations.

[FR Doc. E9-6177 Filed 3-20-08; 8:45 am]

BILLING CODE 3510-DS-S